DEPARTMENT OF ENERGY

Federal Energy Regulatory Commission

[Docket No. EG02-137-000, et al.]

GNE, LLC, et al.; Electric Rate and Corporate Regulation Filings

June 4, 2002.

The following filings have been made with the Commission. The filings are listed in ascending order within each docket classification.

1. GNE, LLC

[Docket No. EG02-137-000]

Take notice that on May 30, 2002, GNE, LLC, located at 1024 Central Street, Millinocket, Maine, 04462, filed with the Federal Energy Regulatory Commission (Commission) an application for determination of exempt wholesale generator status pursuant to Part 365 of the Commission's regulations.

GNE, LLC is a Delaware limited liability company that will own and operate six hydroelectric plants located at or near Berlin, New Hampshire with a total nameplate capacity of approximately 30 megawatts and certain undivided joint ownership interests in several transmission interconnection components that will be part of the eligible facility. GNE, LLC states it will be engaged directly and exclusively in the business of owning and operating all or part of one or more eligible facilities and selling electric energy at wholesale.

Comment Date: June 25, 2002.

2. Ocean Peaking Power, L.P.

[Docket No. EG02-138-000]

Take notice that on May 29, 2002, Ocean Peaking Power, L.P. (the Applicant), a limited partnership with its principal place of business at 111 Broadway, New York, NY 10006, filed with the Federal Energy Regulatory Commission (Commission) an application for determination of exempt wholesale generator status pursuant to Part 365 of the Commission's regulations.

The Applicant proposes to construct, own and operate a natural gas-fired, simple cycle power plant to be located in the town of Lakewood, New Jersey. The proposed power plant will ultimately have a nominally rated generating capacity of approximately 500 MW, although at commencement of commercial operations it will have a nominally rated generating capacity of approximately 333 MW. The power plant is expected to commence commercial operation in January 2003. All capacity and energy from the power plant will be sold exclusively at wholesale.

Comment Date: June 25, 2002

3. Buchanan Generation, LLC

[Docket No. EG02-139-000]

Take notice that on May 30, 2002, Buchanan Generation, LLC (Buchanan), filed with the Federal Energy Regulatory Commission (Commission) an application for determination of exempt wholesale generator status pursuant to Part 365 of the Commission's regulations.

Buchanan, a Virginia limited liability company whose members are Buchanan Energy Company of Virginia, LLC and CONSOL Energy Inc., states that it is constructing 88 MW of natural gas-fired generation in Buchanan County, Virginia.

Comment Date: June 25, 2002.

4. Sierra Pacific Power Company

[Docket No. ER02-254-002]

Take notice that on May 29, 2002, Sierra Pacific Power Company tendered for filing its compliance filing making the changes to the executed Interconnection and Operation Agreement between Sierra Pacific Power Company and Duke Energy Washoe, LLC required by the Commission's April 30th Order in this docket.

Comment Date: June 19, 2002.

5. Midwest Independent Transmission System operator, Inc.

[Docket No. ER02-947-002]

Take notice that on May 29, 2002, the Midwest Independent Transmission System Operator, Inc. (Midwest ISO) tendered for filing, in compliance with the Order of the Federal Energy Regulatory Commission (Commission) in Midwest Independent Transmission System Operator Inc., 99 FERC ¶ 61,112 (2002) and pursuant to Section 205 of the Federal Power Act (FPA), 16 USC 824d (2000) and Section 385.205 of the Commission's regulations, 18 CFR 385.205 (2001), proposed revisions to Attachment T of the Midwest ISO's Open Access Transmission Tariff, FERC Electric Tariff, First Revised Volume No. 1.

Pursuant to the Commission's regulations, 18 CFR 385.2010 (2001), the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: June 19, 2002.

6. American Electric Power Service Corporation

[Docket No. ER02-1904-000]

Take notice that on May 24, 2002, the American Electric Power Service Corporation (AEPSC) tendered for filing four Service Agreements, which include Service Agreements for new customers and replacement Service Agreements for existing customers under the AEP Companies' Power Sales Tariffs. The Power Sales Tariffs were accepted for filing effective October 10, 1997 and have been designated AEP Operating Companies' FERC Electric Tariff Original Volume No. 5 (Wholesale Tariff of the AEP Operating Companies) and FERC Electric Tariff Original Volume No. 8, effective January 8, 1998 in Docket No. ER98-542-000 (Market-Based Rate Power Sales tariff of the CSW Operating Companies) AEPSC respectfully requests waiver of notice to permit the attached Service Agreements to be made effective on or prior to May 1, 2002.

A copy of the filing was served upon the Parties and the State Utility Regulatory Commissions of Arkansas, Indiana, Kentucky, Louisiana, Michigan, Ohio, Oklahoma, Tennessee, Texas, Virginia and West Virginia.

Comment Date: June 14, 2002.

7. UAE Mecklenburg Cogeneration LP

[Docket No. ER02-1902-000]

Take notice that on May 24, 2002, UAE Mecklenburg Cogeneration LP tendered for filing an application for authorization to sell energy, capacity and ancillary services at market-based rates pursuant to section 205 of the Federal Power Act.

Comment Date: June 14, 2002.

8. FPL Energy Marcus Hook, L.P.

[Docket No. ER02-1903-000]

Take notice that on May 24, 2002, FPL Energy Marcus Hook, L.P. tendered for filing an application for authorization to sell energy, capacity and ancillary services at market-based rates pursuant to section 205 of the Federal Power Act.

Comment Date: June 14, 2002.

9. New England Power Pool

[Docket No. ER02-1905-000]

Take notice that on May 24, 2002, the New England Power Pool (NEPOOL) Participants Committee tendered for filing with the Federal Energy Regulatory Commission (Commission) two Service Agreements for Non-Firm Through or Out Service pursuant to Section 205 of the Federal Power Act and 18 CFR 35.12 of the Commission's regulations.

Acceptance of these Service Agreements will recognize the provision of Non-Firm Through or Out Service to South Eastern Electric Development Corporation Development Corporation and South Eastern Generating Corporation in accordance with the provisions of the NEPOOL Open Access Transmission Tariff, as amended and supplemented. In each case, an effective date of July 1, 2002 for commencement of transmission service has been requested. Copies of this filing were sent to all NEPOOL members, the New England public utility commissioners and all parties to the transactions.

Comment Date: June 14, 2002.

10. The Connecticut Light and Power Company

[Docket No. ER02-1906-000]

Take notice that on May 28, 2002, Northeast Utilities Service Company (NUSCO), on behalf of its affiliate, The Connecticut Light and Power Company (CL&P), filed an executed Engineering, Licensing, Construction, Interconnection and Equipment Removal Agreement—Waterside Power Temporary Emergency Generation by and between CL&P and Waterside Power, L.L.C. (Waterside), designated as Original Service Agreement No. 92 (Service Agreement) under Northeast Utilities System Companies' Open Access Transmission Tariff (Tariff No. 9). The Service Agreement is a new agreement establishing the terms and conditions under which an emergency gas turbine electrical generating facility being constructed by Waterside in Stamford, Connecticut will be temporarily interconnected to CL&P's transmission system.

NUSCO states that a copy of this filing has been mailed to Waterside, and that Waterside fully consents to and supports this filing. NUSCO and Waterside request an effective date for the Service Agreement of June 1, 2002, and request any waivers of the Commission's regulations that may be necessary to permit such an effective date.

Comment Date: June 18, 2002.

11. Allegheny Energy Service Corporation, on behalf of Monongahela Power Company The Potomac Edison Company, and West Penn Power Company (Allegheny Power)

[Docket No. ER02-1907-000]

Take notice that on May 28, 2002, Allegheny Energy Service Corporation on behalf of Monongahela Power Company, The Potomac Edison Company and West Penn Power Company (Allegheny Power), submitted a Notice of Cancellation of service agreements with Customers under Allegheny Power's Open Access Transmission Service Tariff. Allegheny Power has requested a waiver of notice to allow the cancellation to be effective as of April 1, 2002.

Copies of the filing have been provided to the Public Utilities Commission of Ohio, the Pennsylvania Public Utility Commission, the Maryland Public Service Commission, the Virginia State Corporation Commission, and the West Virginia Public Service Commission.

Comment Date: June 18, 2002.

12. Progress Energy Inc. on behalf of Progress Ventures, Inc.

[Docket No. ER02-1908-000]

Take notice that on May 28, 2002, Progress Ventures, Inc. (Progress Ventures) tendered for filing executed Service Agreements between Progress Ventures and the following eligible buyers, Effingham County Power, LLC, Rowan County Power, LLC and MPC Generating, LLC. Service to these eligible buyers will be in accordance with the terms and conditions of Progress Ventures Market-Based Rates Tariff, FERC Electric Tariff No. 1.

Progress Ventures requests an effective date of May 1, 2002 for each Service Agreement. Copies of the filing were served upon the North Carolina Utilities Commission, the South Carolina Public Service Commission, the Florida Public Service Commission and the Georgia Public Service Commission.

Comment Date: June 18, 2002.

13. New England Power Pool

[Docket No. ER02-1909-000]

Take notice that on May 28, 2002, the New England Power Pool (NEPOOL) Participants Committee submitted the Eighty-Fifth Agreement Amending New England Power Pool Agreement (the Eighty-Fifth Agreement), which proposes to add a Financial Assurance Policy for Non-Participant FTR (Financial Transmission Right) Customers, which is Attachment O to the NEPOOL Tariff. This Financial Assurance Policy would complement the implementation of NEPOOL's FTR markets, projected to occur later this year.

The NEPOOL Participants Committee states that copies of these materials were sent to the NEPOOL Participants, Non-Participant Transmission Customers and the New England state governors and regulatory commissions.

Comment Date: June 18, 2002.

14. Arizona Public Service Company

[Docket No. ER02-1910-000]

Take notice that on May 28, 2002, Arizona Public Service Company (APS) tendered for filing additions to several Interconnection and Operating Agreements under its Open Access Transmission Tariff.

A copy of this filing has been served on Pinnacle West Energy, Reliant Energy Desert Basin, LLC, the Western Electricity Coordinating Council and the Arizona Corporation Commission.

Comment Date: June 18, 2002.

15. Allegheny Power

[Docket No. ER02-1911-000]

Take notice that on May 24, 2002, West Penn Power Company, Monongahela Power Company and The Potomac Edison Company, all doing business as Allegheny Power filed requisite copies of executed Transition Services Agreements between Allegheny Power and the City of New Martinsville, West Virginia, The City of Philippi, West Virginia and Harrison Rural Electrification Association. These should be substituted for the unexecuted versions contained in the original filing filed on March 28, 2002. Allegheny Power recites that the Transition Services Agreements are needed to implement the PJM West arrangements and divide responsibility for the PJM bill between the customers and Allegheny Power.

Comment Date: June 14, 2002.

16. Entergy Services, Inc.

[Docket No. ER02-1912-000]

Take notice that on May 28, 2002, Entergy Services, Inc., on behalf of Entergy Gulf States, Inc. (Entergy Gulf States), tendered for filing six copies of a Notice of Termination of the Interconnection and Operating Agreement and Generator Imbalance Agreement between Entergy Gulf States and Calcasieu Development Company, L.L.C.

Comment Date: June 18, 2002.

17. Nevada Power Company

[Docket No. ER02-1913-000]

Take notice that on May 29, 2002, Nevada Power Company tendered for filing an unexecuted Interconnection and Operation Agreement between Nevada Power Company and GenWest, LLC.

Comment Date: June 19, 2002.

18. Southern Indiana Gas & Electric Company

[Docket No. ER02-1914-000]

Take notice that on May 29, 2002, Southern Indiana Gas & Electric Company (SIGECO), tendered for filing an executed Service Agreement for Generator-Related Ancillary Services between SIGECO and Midwest Independent Transmission System Operator, Inc. (Midwest ISO) under SIGECO's FERC Electric Tariff, Second Revised Volume No. 3.

SIGECO respectfully requests that the Service Agreement become effective on February 1, 2002, the date service commenced and the date upon which the Commission has previously made the Service Agreement effective in Docket No. ER02-997-000. Copies of the filing were served upon the above-mentioned company and the Indiana Utility Regulatory Commission.

Comment Date: June 19, 2002.

19. American Electric Power Service Corporation

[Docket No. ER02-1915-000]

Take notice that on May 28, 2002, the American Electric Power Service Corporation (AEPSC) tendered for filing six (6) non-redacted, confidential copies and six (6) redacted, non-confidential copies of Service Agreements for the sale of power by AEPSC, which are greater than one year in length. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies). AEPSC respectfully requests waiver of notice to permit the attached Service Agreements to be made effective on or prior to May 1, 2002.

A copy of the filing was served upon the Parties and the State Utility Regulatory Commissions of Arkansas, Indiana, Kentucky, Louisiana, Michigan, Ohio, Oklahoma, Tennessee, Texas, Virginia and West Virginia.

Comment Date: June 18, 2002.

20. Rainy River Energy Corporation

[Docket No. ER02-1916-000]

Take notice that on May 28, 2002, the Rainy River Energy Corporation (RREC) filed with the Federal Energy Regulatory Commission (Commission) a Long-Term Capacity and Energy Purchase Contract between RREC and Wisconsin Public Power Inc., a Long-Term Capacity and Energy Purchase Contract between RREC and Madison Gas and Electric Company, an EEI Master Power Purchase and Sale Agreement and Transaction Confirmation for the sale of 80 MW for 12.5 months to Wisconsin Electric Power Company to be effective May 1, 2002.

Comment Date: June 18, 2002.

21. Southern Company Services, Inc.

[Docket No. ER02-1917-000]

Take notice that on May 28, 2002, Southern Company Services, Inc. (SCS), acting on behalf of Alabama Power Company, Georgia Power Company, Gulf Power Company, Mississippi Power Company, and Savannah Electric and Power Company (collectively Southern Companies), filed three transmission service agreements under the Open Access Transmission Tariff of Southern Companies (FERC Electric Tariff, Fourth Revised Volume No. 5) (Tariff). Specifically, these agreements are as follows: (1) One firm point-to-point transmission service agreement with Morgan Stanley Capital Group, Inc. (Service Agreement No. 450); (2) one firm point-to-point transmission service agreement with Williams Energy Marketing & Trading Company (Service Agreement No. 451); and (3) one rollover firm point-to-point transmission service agreement with Exelon Generation Company, LLC (First Revised Service Agreement No. 397).

Comment Date: June 18, 2002.

Standard Paragraph

E. Any person desiring to intervene or to protest this filing should file with the Federal Energy Regulatory Commission, 888 First Street, N.E., Washington, D.C. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-14574 Filed 6-10-02; 8:45 am]

BILLING CODE 6717-01-P